DEPARTMENT OF ENERGY

Federal Energy Regulatory Commission

[Project No. 7725-005]

Barton Village, Inc., Vermont; Notice Of Availability Of Environmental Assessment

April 15, 2004.

In accordance with the National Environmental Policy Act of 1969 and the Federal Energy Regulatory Commission's (Commission) regulations, 18 CFR part 380 (Order No. 486, 52 FR 47897), the Office of Energy Projects has reviewed the application for license for the Barton Village Hydroelectric Project and has prepared an Environmental Assessment (EA) for the project. The project is located on the Clyde River, in the Town of Charleston, within the county of Orleans, Vermont. No Federal lands or facilities are occupied or used by the project.

The EA contains the staff's analysis of the potential environmental impacts of the project and concludes that licensing the project, with appropriate environmental protective measures, would not constitute a major federal action that would significantly affect the quality of the human environment.

A copy of the EA is on file with the Commission and is available for public inspection. The EA may also be viewed on the Commission's website at http://www.ferc.gov using the “eLibrary” link. Enter the docket number excluding the last three digits in the docket number field to access the document. For assistance, contact FERC Online Support at FERCOnlineSupport@ferc.gov or toll-free at 866-208-3676, or for TTY, (202) 502-8659.

Any comments should be filed within 30 days from the issuance date of this notice, and should be addressed to the Secretary, Federal Energy Regulatory Commission, 888 First Street, NE., Room 1-A, Washington, DC 20426. Please affix “Barton Village Hydroelectric Project No. 7725” to all comments. Comments may be filed electronically via Internet in lieu of paper. The Commission strongly encourages electronic filings. See 18 CFR 385.2001(a)(1)(iii) and the instructions on the Commission's Web site under the “e-Filing” link. For further information, contact Timothy Looney at (202) 502-6096 or by e-mail at timothy.looney@ferc.gov.

Magalie R. Salas,
Secretary.

[FR Doc. E4-899 Filed 4-20-04; 8:45 am]

BILLING CODE 6717-01-P